DEPARTMENT OF TRANSPORTATION

Federal Aviation Administration

14 CFR Part 39

[Docket No. 2002-SW-06-AD; Amendment 39-12918; AD 2002-21-12]

RIN 2120-AA64

Airworthiness Directives; Agusta S.p.A. Model A109E Helicopters

AGENCY: Federal Aviation Administration, DOT.

ACTION: Final rule.

SUMMARY: This amendment adopts a new airworthiness directive (AD) for the specified Agusta S.p.A. (Agusta) helicopters that requires establishing or reducing the life limits of various parts listed in the airworthiness limitations section (ALS) of the maintenance manual. This amendment is prompted by the results of fatigue tests and analysis to determine life limits for various parts. The actions specified by this AD are intended to establish or reduce the life limits to prevent failure of specified parts and subsequent loss of control of the helicopter.

DATES: Effective November 26, 2002.

FOR FURTHER INFORMATION CONTACT: Carroll Wright, Aviation Safety Engineer, FAA, Rotorcraft Directorate, Regulations Group, Fort Worth, Texas 76193-0111, telephone (817) 222-5120, fax (817) 222-5961.

SUPPLEMENTARY INFORMATION: A proposal to amend 14 CFR part 39 to include an AD for the Agusta Model A109E helicopters was published in the Federal Register on July 15, 2002 (67 FR 46425). That action proposed to require establishing or reducing the life limits of specified parts of the main transmission assembly and supports, the tail rotor assemblies, the main rotor control bolt, and the fuselage left-hand elevator, and revising the ALS of the maintenance manual accordingly.

This helicopter model is manufactured in Italy and is type certificated for operation in the United States under the provisions of 14 CFR 21.29 and the applicable bilateral agreement. The FAA has reviewed all available information and determined that AD action is necessary for products of this type design that are certificated for operation in the United States.

Interested persons have been afforded an opportunity to participate in the making of this amendment. No comments were received on the proposal or the FAA's determination of the cost to the public. The FAA has determined that air safety and the public interest require the adoption of the rule as proposed.

The FAA estimates that this AD will affect 31 helicopters of U.S. registry. The total cost of the 11 parts listed in Table 1 of this AD is approximately $41,294. Based on these figures, the total cost impact of the AD on U.S. operators is estimated to be $1,280,114, assuming that all 11 parts are replaced on each helicopter in the entire fleet. There will be no additional labor costs because the parts will be replaced during the normal maintenance process.

The regulations adopted herein will not have a substantial direct effect on the States, on the relationship between the national Government and the States, or on the distribution of power and responsibilities among the various levels of government. Therefore, it is determined that this final rule does not have federalism implications under Executive Order 13132.

For the reasons discussed above, I certify that this action: (1) Is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the Office of the Regional Counsel, Southwest Region, 2601 Meacham Blvd., Room 663, Fort Worth, Texas.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2002-21-12 Agusta S.p.A.: Amendment 39-12918. Docket No. 2002-SW-06-AD.

Applicability: Model A109E helicopters, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (c) of this AD. The request should include an assessment of the effect of the modification, alteration, or repair on the unsafe condition addressed by this AD; and if the unsafe condition has not been eliminated, the request should include specific proposed actions to address it.

Compliance: Required within 100 hours time-in-service (TIS), unless accomplished previously.

To prevent failure of specified parts of the main transmission assembly and supports, the tail rotor assemblies, the main rotor control bolt, or the fuselage left-hand elevator, and subsequent loss of control of the helicopter, accomplish the following:

(a) Replace each part listed in Table 1 with an airworthy part on or before reaching the specified hours TIS as shown in Table 1 of this AD as follows:

Table 1
Part Name | Part Number | Hours TIS
(1) Main transmission gear pinion | 109-0403-05-111 | 6,100
(2) Main transmission gear driver | 109-0403-04-3 | 8,300
(3) Main transmission shaft assembly | 109-0405-76-107 | 25,000
(4) Tail rotor retention strap assembly | 109-8131-07-1 | 1,800
(5) Tail rotor hub assembly | 109-0131-06-7 | 3,000
(6) Tail rotor 90-degree gearbox pinion gear | 109-0433-01-107 | 6,100
(7) Tail rotor 90-degree gearbox crown gear | 109-0443-01-103 | 11,700
(8) Main rotor control bolt | 109-0110-90-103 | 5,000
(9) Fuselage left-hand elevator | 109-0200-02-93 | 4,400
(10) Main transmission support aft rod | 109-0325-03-113 | 35,000
(11) Main transmission support lower fitting | 109-0325-08-1 | 30,000

(b) This AD revises the airworthiness limitations section of the maintenance manual by establishing or reducing the life limit as specified in Table 1 of this AD.

(c) An alternative method of compliance or adjustment of the compliance time that provides an acceptable level of safety may be used if approved by the Manager, Regulations Group, Rotorcraft Directorate, FAA. Operators shall submit their requests through an FAA Principal Maintenance Inspector, who may concur or comment and then send it to the Manager, Regulations Group.

Note 2: Information concerning the existence of approved alternative methods of compliance with this AD, if any, may be obtained from the Regulations Group.

(d) Special flight permits will not be issued.

(e) This amendment becomes effective on November 26, 2002.

Issued in Fort Worth, Texas, on October 10, 2002.
Larry M. Kelly,
Acting Manager, Rotorcraft Directorate, Aircraft Certification Service.

[FR Doc. 02-26665 Filed 10-21-02; 8:45 am]

BILLING CODE 4910-13-P